DEPARTMENT OF ENERGY

Federal Energy Regulatory Commission

[Project No. 9784-003]

Neshkoro Power Associates, LLC; Renaissance Hydro Associates; Wisconsin8, LLC; Notice of Transfer of Exemption

1. By letter filed March 9, 2017 and supplemented on March 21, 2017, Wisconsin8, LLC informed the Commission that the exemption from licensing for the Manawa Dam Project No. 9784, originally issued June 30, 1988 ¹ has been transferred to the Wisconsin8, LLC. The project is located on the Little Wolf River in Waupaca County, Wisconsin. The transfer of an exemption does not require Commission approval.

¹ Order Granting Exemption from Licensing (5 MW or Less). North American Hydro, Inc. and Renaissance Hydro Associates, 43 FERC ¶ 62,388 (1988).

2. Wisconsin8 LLC is now the exemptee of the Manawa Dam Project No. 9784. All correspondence should be forwarded to: Mr. Dwight Bowler, Wisconsin8 LLC, c/o Black River Partners, LLC, 813 Jefferson Hill Road, Nassau, NY 12123.

Dated: April 11, 2017.
Kimberly D. Bose,
Secretary.

[FR Doc. 2017-07689 Filed 4-14-17; 8:45 am]

BILLING CODE 6717-01-P